COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add a product and service to the Procurement List that will be furnished by nonprofit agencies employing persons who are blind or have other severe disabilities and to delete products previously furnished by such agencies.

Comments Must Be Received On or Before: 10/22/2012.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the product and service to the Government.

2. If approved, the action will result in authorizing small entities to furnish the product and service to the Government.

3. There are no known regulatory alternatives which would accomplish the objectives of the Javits-Wagner-O'Day Act (41 U.S.C. 8501-8506) in connection with the product and service proposed for addition to the Procurement List.

Comments on this certification are invited. Commenters should identify the statement(s) underlying the certification on which they are providing additional information.

End of Certification

The following product and service are proposed for addition to the Procurement List for production by the nonprofit agencies listed:

Product

NSN: 7045-00-NIB-0392—Blank media discs, DVD-R, Thermal Printable, Silver, 16x Speed, 120 Min/4.7GB, 100 PK

NPA: North Central Sight Services, Inc., Williamsport, PA

Contracting Activity: General Services Administration, New York, NY

Coverage: A-List for the Total Government Requirement as aggregated by the General Services Administration

Service

Service Type/Location: Custodial & Grounds Maintenance Service, National Oceanic and Atmospheric Administration (NOAA), Air Resources Laboratory, 456 S. Illinois Avenue, Oak Ridge, TN

NPA: Goodwill Industries—Knoxville, Inc., Knoxville, TN

Contracting Activity: Department of Commerce, National Oceanic and Atmospheric Administration, Kansas City, MO

Deletions

The following products are proposed for deletion from the Procurement List:

Products

Corrosion-Preventive Compound

NSN: 8030-00-NIB-0005—Lubricant, 5-in-1 Penetrating Multipurpose oil, Biobased, Aerosol, 18 oz. net

NPA: The Lighthouse for the Blind, St. Louis, MO

Contracting Activity: General Services Administration, Tools Acquisition Division I, Kansas City, MO

NSN: 7520-01-238-0978—Fluorescent Highlighter, Blue

NSN: 7520-01-238-0979—Fluorescent Highlighter, Green

NSN: 7520-01-553-8140—Highlighters, Free-Ink, Flat

NPA: Winston-Salem Industries for the Blind, Inc., Winston-Salem, NC

Contracting Activity: General Services Administration, New York, NY

Barry S. Lineback,
Director, Business Operations.

[FR Doc. 2012-23329 Filed 9-20-12; 8:45 am]

BILLING CODE 6353-01-P